FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 6, 2004.

A. Federal Reserve Bank of Chicago (Patrick Wilder, Managing Examiner) 230 South LaSalle Street, Chicago, Illinois 60690-1414:

1. Mark Bradley Richardson, Thetford Center, Vermont, and Kimberly Ann Richardson, Atlanta, Georgia, as trustees of the 1988 Irrevocable Trust of Coyn V. Richardson; to acquire additional voting shares of Cowden Bancorp, Inc., Springfield, Illinois, and thereby indirectly acquire Community Banks of Shelby County, Cowden, Illinois.

B. Federal Reserve Bank of Kansas City (James Hunter, Assistant Vice President) 925 Grand Avenue, Kansas City, Missouri 64198-0001:

1. Gary D. and Donna L. Bunch, both of Edmond, Oklahoma; to retain control of Exchange Bancshares of Moore, Inc., Moore, Oklahoma, and thereby indirectly retain voting shares of Exchange National Bank, Moore, Oklahoma.

Board of Governors of the Federal Reserve System, March 17, 2004.
Robert deV. Frierson,
Deputy Secretary of the Board.

[FR Doc. 04-6411 Filed 3-22-04; 8:45 am]

BILLING CODE 6210-01-S